FEDERAL EMERGENCY MANAGEMENT AGENCY

Agency Information Collection Activities: Proposed Collection; Comment Request

AGENCY: Federal Emergency Management Agency (FEMA).

ACTION: Notice and request for comments.

SUMMARY: As part of our continuing effort to reduce paperwork and respondent burden we (FEMA) invite comments on our information collections associated with our grant and cooperative agreement programs. We previously published in the Federal Register an information collection notice for our non-disaster grant programs. This notice pertains to our non-disaster and disaster grant programs. This notice seeks comments concerning the collection of information that will encompass the financial and administrative reporting and recordkeeping requirements associated with FEMA functional and program activities funded through grants and cooperative agreements.

SUPPLEMENTARY INFORMATION: FEMA awards a variety of grant and cooperative agreements to help carry out its strategic goals. These assistance agreements are made to State and local governments who are involved with components of emergency management. The agency recently instituted a grant consolidation effort in order to maximize flexibility for our State partners while increasing accountability for measurable results.

The FEMA awards are for disaster and non-disaster programs, and FEMA is seeking to have efficient and effective grant administration practices by ensuring that the information collected is done in a consistent manner.

The following programs are covered in this collection as well as any other ad hoc programs, programs that are issued one time for a specific purpose, that FEMA may award:

Non-Disaster Programs

Catalog of Federal Domestic Assistance No. 83.105-Community Assistance Program-State Support Services Element (CAP-SSSE)—To ensure that communities participating in the National Flood Insurance Program (NFIP) are achieving flood loss reduction measures consistent with program direction. The CAP-SSSE is intended to identify, prevent and resolve floodplain management issues in participating communities before they develop into problems requiring enforcement action.

Catalog of Federal Domestic Assistance No. 83.526-National Urban Search and Rescue (US&R) Response System—To develop an immediately deployable, national response capability to locate and extricate, and medically stabilize victims of structural collapse during a disaster, while simultaneously enhancing the US&R response capabilities of State and local governments.

Catalog of Federal Domestic Assistance No. 83.535-Mitigation Assistance (MA)—To provide financial and technical assistance to States to create and maintain comprehensive State hazard mitigation capability.

Catalog of Federal Domestic Assistance No. 83.535-Flood Mitigation Assistance (FMA)—To assist States and communities in implementing measures to reduce or eliminate the long-term risk of flood damage to buildings, manufactured homes, and other structures insurable under the National Flood Insurance Program (NFIP).

Catalog of Federal Domestic Assistance No. 83.549-Chemical Stockpile Emergency Preparedness Program (CSEPP)—To enhance emergency preparedness capabilities of the States and local communities at each of the eight chemical agent stockpile storage facilities. The purpose of the program is to assist States and local communities in efforts to improve their capacity to plan for and respond to accidents associated with the storage and ultimate disposal of chemical warfare materials.

Catalog of Federal Domestic Assistance No. 83.550-National Dam Safety Program (NDSP)—To encourage the establishment and maintenance of effective State programs intended to ensure dam safety, to protect human life and property, and to improve State dam safety programs.

Catalog of Federal Domestic Assistance No. 83.551-Project Impact Grants (PI)—To encourage the implementation of a sustained pre-disaster mitigation program with activities that reduce the existing risk of natural hazard losses within the geographic location of the designated communities and to strengthen the States' abilities to support these communities.

Catalog of Federal Domestic Assistance No. 83.552-Emergency Management Performance Grants (EMPG)—To encourage the development of comprehensive emergency management, including for terrorism consequence management, at the State and local level and to improve emergency planning, preparedness, mitigation, response, and recovery capabilities.

Disaster Programs

Catalog of Federal Domestic Assistance No. 83.539-Crisis Counseling (SCC)—To provide immediate crisis counseling services, when required, to victims of a major Federally-declared disaster for the purpose of relieving mental health problems caused or aggravated by a major disaster or its aftermath.

Catalog of Federal Domestic Assistance No. 83.543-Individual and Family Grants (IFG)—To provide funds for the necessary expenses and serious needs of disaster victims which cannot be met through other forms of disaster assistance or through other means such as insurance.

Catalog of Federal Domestic Assistance No. 83.544-Public Assistance Grants (IA)—To provide supplemental assistance to States, local governments, and political subdivisions to the State, Indian Tribes, Alaskan Native Villages, and certain nonprofit organizations in alleviating suffering and hardship resulting from major disasters or emergencies declared by the President.

Catalog of Federal Domestic Assistance No. 83.548-Hazard Mitigation Grant (HMGP)—To provide States and local governments financial assistance to implement measures that will permanently reduce or eliminate future damages and losses from natural hazards through safer building practices and improving existing structures and supporting infrastructure.

Collection of Information

Title: FEMA Assistance Programs (formerly Financial and Technical Assistance Under Performance Partnership Agreements).

Type of Information Collection: Revision of currently approved collection.

OMB Number: 3067-0206.

Form Numbers: SF424, Application for Federal Assistance; Indirect Cost Agreement, FEMA Form (FF) 20-20, Budget Information—Non-Construction; FF20-15, Budget Information—Construction; FF20-16, Assurances; FF76-10A, Obligating Document for Awards/Amendments; FF20-10, Financial Status Report; FF20-17, Outlay Report and Request for Reimbursement for Construction Programs; FF20-18, Report of Government Property; SF-SAC, Data Collection form for Reporting on Audits; and SF 270, Request for Advance or Reimbursement.

Abstract: The collection of information focuses on Standard and FEMA Forms associated with the financial and administrative reporting and recordkeeping requirements that enable State, local governments, and other recipients to request and administer FEMA assistance agreements. This request may be electronic or written. FEMA is instituting a process of using a subset of its OMB approved forms for grant administration in its disaster assistance programs. The following matrix illustrates the relationship between the individual grant/cooperative agreement programs and use of the forms identified in this collection:

Application
Program | SF 424 | FF 20-20 | FF 20-15 | FF 20-16
CAP | X | X |  | X
US&R | X | X |  | X
MA | X | X |  | X
FMA | X | X |  | X
SCC | X |  |  |
IFG | X | X |  | X
IA | X | X |  | X
HMGP | X | X |  | X
CSEPP | X | X |  | X
NDSP | X | X |  | X
PI | X | X |  | X
EMPG | X | X | X | X

Award
Program | FF 76-10A
CAP | X
US&R | X
MA | X
FMA | X
SCC |
IFG |
IA |
HMGP |
CSEPP | X
NDSP | X
PI | X
EMPG | X

Outlays
Program | FF 20-10 | FF 20-17 | FF 20-18 | FF 20-19
CAP | X |  | X | X
US&R | SF 270 |  |  |
MA | X |  |  |
FMA | X |  | X | X
SCC | X |  |  |
IFG | X |  |  |
IA | X |  |  |
HMGP | X |  |  |
CSEPP | X |  | X | X
NDSP | SF 270 |  |  |
PI | X |  |  |
EMPG | X | X | X | X
Affected Public: State, Local or Tribal Governments, non-profit organizations.
Estimated Total Annual Burden and Recordkeeping Hours: Non-disaster 37,777; Disaster—217,090; Total—254,867.
In the notice of January 11, 1999, we listed the burden hour information for non-disaster assistance programs as follows. FEMA Form 20-22, Narrative Form, is no longer being used in this collection.

FEMA forms and other reporting | Number of respondents (A) | Frequency of response (B) | Hours per response (C) | Annual reporting hours (A×B×C) | Record-keeping burden hours
FF20-10 Financial Status Report . . . (semi-annual) | 56 | 2 | 9.8 | 1,097.6 | 22.4
FF20-15 Budget Information Construction Program | 56 | 5 | 17 | 4,760 | 56
FF20-16 Summary Sheet for Assurances and Certifications | 56 | 1 | 1.5 | 84 | 11.2
FF20-17 Outlay Report and Request for Reimbursement for Construction | 56 | 15 | 17 | 14,280 | 168
FF20-18 Report of Government Property | 56 | 1 | 6 | 336 | 11.2
FF20-19 Report of Unobligated Balance of Federal Funds | 56 | 20 | 2 | 2,240 | 224
FF20-20NC Budget Information Non Construction | 56 | 10 | 9.8 | 5,488 | 112
FF76-10A Obligating Document for Award | 56 | 1 | 1.5 | 84 | 11.2
SF424 Application for Federal Assistance | 56 | 1 | 2 | 112 | 11.2
Reading and Understanding | 56 | 1 | 12 | 672 | 11.2
Indirect Cost Agreement | 56 | 2 | 50 | 5,600 | 22.4
Budget Deviations | 56 | 2 | 5.8 | 649.4 | 22.4
SF Data Collection | 56 | 1 | 30 | 1,680 | 11.2
Total |  |  |  | 37,083 | 694.40

The following chart shows burden hour information for FEMA disaster assistance programs: (Under “Frequency of Response,” 64 equals the average number of disasters per year.)

FEMA forms and other reporting | Number of respondents (A) | Frequency of response (B) | Hours per response (C) | Annual reporting hours (A×B×C) | Record-keeping burden hours
FF20-10 Financial Status Report (quarterly) | 56 | 256 | 9.8 | 140,492.8 | 2,867.2
FF20-16 Summary Sheet for Assurances and Certifications | 56 | 64 | 1.5 | 5,376 | 716.80
FF20-18 Report of Government Property | 56 | 64 | 6 | 21,504 | 716.80
FF20-20 Budget Information Non Construction | 56 | 64 | 9.8 | 35,123.2 | 716.80
SF424 Application for Federal Assistance | 56 | 64 | 2 | 7,168 | 716.80
SF Data Collection | 56 | 1 | 30 | 1,680 | 11.2
Total |  |  |  | 211,344 | 5,745.60
Estimated Cost: $400,000.00.

Comments: We are soliciting written comments to:

(a) Evaluate whether the proposed data collection is necessary for the proper performance of our responsibilities, including whether the information will have practical utility;

(b) Evaluate the accuracy of our estimate of the burden of the proposed collection of information, including the validity of the methodology and assumptions that we used;

(c) Enhance the quality, utility, and clarity of the information to be collected;

(d) Minimize the burden of information collection on those who must respond, including permitting electronic submission of responses through the use of appropriate automated, electronic, mechanical, or other technological collection techniques or other forms of information technology; and

(e) Help FEMA to more accurately identify and quantify respondent costs.

DATES: Please send any comments on or before April 24, 2000.

ADDRESSES: Please send written comments to Muriel B. Anderson, FEMA Information Collections Officer, Federal Emergency Management Agency, 500 C Street, SW, Room 316, Washington, DC 20472, (tel.) (202) 646-2625, (facsimile) (202) 646-3524, (email) muriel.anderson@fema.gov. Also, contact Ms. Anderson for copies of the proposed collection of information.

FOR FURTHER INFORMATION CONTACT: Arlene Ramsey, Office of Financial Management, Federal Emergency Management Agency, 500 C Street, SW, Room 350, Washington, DC 20472, (tel.) (202) 646-4531.

Dated: February 14, 2000.
Reginald Trujillo,
Director, Program Services Division, Operations Support Directorate.

[FR Doc. 00-4073 Filed 2-18-00; 8:45 am]

BILLING CODE 6718-01-P